DEPARTMENT OF HOUSING AND URBAN DEVELOPMENT

[Docket No. FR-6005-N-01]

60-Day Notice of Proposed Information Collection: Comment Request: Agency Information Collection Activities: Consolidated Discretionary Grant Programs Solicitations (Funding Opportunities) Templates and Forms

AGENCY: Office of Strategic Planning and Management, Grants Management and Oversight Division, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: February 20, 2018.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Ann vom Eigen, Grants Management and Oversight Division, Office of Strategic Planning and Management, Department of Housing and Urban Development, 451 Seventh St. SW, Room 3156, Washington, DC 20410 or by email Ann.H.vomEigen@hud.gov or telephone 202-402-2146. This is not a toll-free number. Persons with hearing or speech impairments may access this number through TTY by calling the toll-free Federal Relay Service at (800) 877-8339.

Copies of the proposed data collection forms may be requested from Ms. Pollard.

SUPPLEMENTARY INFORMATION: This notice informs the public that Department will submit the proposed information collection to OMB for review, as required by the Paperwork Reduction Act of 1995 (44 U.S.C. Chapter 35, as amended). HUD is seeking approval from OMB for the information collection described in Section A.

HUD is seeking approval from OMB for the information collection described in Section A.

A. Overview of Information Collection

Title of Information Collection: Consolidated Discretionary Grant Programs Solicitations (Funding Opportunities) Templates and Forms

OMB Approval Number: Consolidation of existing collections, renewals as well as new and pending collections listed as follows:

HUD Standard Forms

OMB Control Number: 4040-0004

• Application for Federal Assistance (SF-424)

OMB Control Number: 2501-0017

• Grant Application Detailed Budget Form (HUD-424-CB)

• Grant Application Detailed Budget Worksheet (HUD-424-CBW)

OMB Control Number: 2535-0011

• Applicant/Recipient Disclosure/Update Report (HUD-2880)

OMB Control Number: 2577-0259

• Acknowledgment of Application Receipt (HUD-2993)

OMB Control Number: 4040-0013

• Disclosure of Lobbying (SF-LLL)

• Certification Regarding Lobbying (SF-LLLa)

OMB Control Number: 2502-0261

• Funding Matrix (HUD 424-M)

OMB Control Number: 2502-0447

• Survey on Ensuring Equal Opportunity for Applicants (HUD-424-SUP)

New Collection: Pending OMB Approval (Number not yet Assigned)

• Discretionary Program Notice of Funding Availability Template

• CoC Notice of Funding Availability Template

Approved Collections Using HUD Standard Forms for Applications

OMB Control Number: 2577-0283

OMB Control Number: 2539-0015

OMB Control Number: 2528-0299

OMB Control Number: 2506-0195

OMB Control Number: 2506-0197

OMB Control Number: 2506-0210

OMB Control Number: 2506-0157

OMB Control Number: 2529-0033

OMB Control Number: 2502-0613

HUD Common Forms

OMB Control Number: 2535-0120

• Removal of Regulatory Barriers (form HUD-27300)

OMB Control Number: 2502-0267

• Sponsor's Conflict of Interest Resolution (form HUD-92041)

OMB Control Number: 2506-0112

• Fair Housing Certification (form HUD-40090-4)

OMB Control Number: 2506-0182

OMB Control Number: 2502-0261

• Housing Counseling Agency Fiscal Year Activity Report (form HUD-9902)

• Housing Counseling Charts (form HUD-9906 A, B, C, D, E, F, G)

OMB Control Number: 2577-0269

• Eligible Neighborhoods Documentation—Inadequate School Documentation (HUD-53153)

• Eligible Target Housing Documentation—Severe Distress of Targeted Project Certification (HUD-53232)

OMB Control Number: 2502-0118

• Previous Participation Certification—Multifamily (form HUD-2530)

OMB Control Number: 2535-0113

• Race and Ethnicity Reporting (form HUD-27061)

OMB Control Number: 2577-0169

• Funding Application, Section 8 Tenant-Based Assistance, Rental Certificate Program, Rental Voucher Program (form HUD-52515)

Program Specific Forms

OMB Control Number: 2577-0191

• Contract and Subcontract Activity Report (form HUD-2516)

• Cost Summary Indian Community Development Block Grant (ICDBG) (form HUD-4123)

• Implementation Schedule Indian Community Development Block Grant (ICDBG) (form HUD 4125)

OMB Control Number: Pending OMB Approval

• Jobs Plus Summary Budget (form HUD-50144)

OMB Control Number: 2577-0178

• Family Self-Sufficiency (FSS) Program Contract of Participation (form HUD-52650)

• Family Self Sufficiency Program Coordinator Funding (form HUD-52651)

• Family Self Sufficiency (FSS) Escrow Account Credit Worksheet (form HUD-52652)

OMB Control Number: 2577-0229

• Sample Contract Admin Partnership Agreement (form HUD-52755)

• Resident Opportunities and Self Sufficiency (ROSS) Service Coordinators Funding Request (revised version) (form HUD-52768)

• Certification of Consistency with the Indian Housing Plan (form HUD-52752)

• Certification of Election of Resident Housing Board (form HUD-52753)

OMB Control Number: 2577-0269

• Application Checklist/Table of Contents (form HUD-53230)

• Choice Neighborhoods Implementation Grants Resident and Community Involvement Certification (form HUD-53231)

• Choice Neighborhoods Implementation Grants Application Information (HUD-53233)

• Choice Neighborhoods Attachments 2 and 3: Existing Units, Occupancy, and Vacancy and Planned Units (form HUD-53234)

• Choice Neighborhoods Implementation Grant Sizing Worksheet (form HUD-53235)

• Choice Neighborhoods Implementation Grants—Budget Form (form HUD-53236)

• Choice Neighborhoods Extraordinary Site Costs Certification (form HUD-53237)

• Choice Neighborhoods Implementation Grants One-for-One Replacement Certification (form HUD-53238)

• Choice Neighborhoods Implementation Leverage Resources; Housing Leverage Documentation; Neighborhood and People Resources (form HUD-53239)

• Choice Neighborhoods Implementation Application Certifications Attachment (form HUD-53240)

• Choice Neighborhoods Application Certification—Implementation Grants (form HUD-53240)

• Application Checklist/Table of Contents (form HUD-53150)

• Key Eligibility Data (form HUD-53152)

• Choice Neighborhoods Planning Grant Match/Leverage Resources (form HUD-53154)

• Choice Neighborhoods Application Certifications—Planning Grants (form HUD-53156)

• Resident Involvement Certification (form HUD-53151)

• Planning Grant Budget Form (form HUD-53421)

• Implementation Grant Budget Form (form HUD-53236)

• Actual Cost Certificate (form HUD-50163)

OMB Control Number: 2577-0208

• HOPE VI Attachment 9 Total Direct Cost/Grant Limitations Worksheet (form HUD-52799)

• Actual HOPE VI Cost Certificate (form HUD-53001-A)

• HOPE VI Budget (form HUD-52825-A)

• HOPE VI Main Street Application Data Sheet (form HUD-52861)

• HOPE VI Relocation Plan (form HUD-52774)

• HOPE VI Revitalization Leverage Resources (form HUD-52797)

OMB Control Number: 2502-0447

• Multifamily Housing Service Coordinator First-Time Funding Request (form HUD-91186)

• Multifamily Grant Extension Request Form (form HUD-91186-A)

• Line of Credit Control System (LOCCS) Payment Voucher (form HUD-50080)

Oversight and Post-Award Forms

OMB Control Number: 4040-0014

• Federal Financial Report (SF-425)

OMB Control Number: 2577-0157

• Annual Statement Performance and Evaluation Report Capital Fund Program (HUD-50075.1)

OMB Control Number: 2502-0447

• Performance Report (HUD 92456)

B. Solicitation of Public Comment

Written comments and suggestions from the public and affected agencies concerning the proposed collection of information are encouraged. Your comments should address one or more of the following four points.

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including using appropriate automated collection techniques or other forms of information technology, e.g., permitting electronic submission of responses.

Affected Public who will be Asked or Required to Respond as well as a Brief Abstract: The primary respondents are applicants and recipients including, but not limited to, state agencies, local governments, Indian tribes, Tribally Designated Housing Entities (TDHEs), public housing authorities, institutions of higher education, faith based organizations, and non-profit and for profit organizations devoted to community development, housing the homeless, and other activities.

The solicitation template provides a framework for program-specific Notices of Funding Availability (NOFAs) soliciting applications for funding. A program solicitation or NOFA outlines the specific program requirements, describes eligibility requirements, details information, data, and forms applicants must submit in the application process; outlines program evaluation and performance measures; explains selection criteria and the review process; and provides registration dates, deadlines, and instructions on how to apply. The burden associated with the information collection subject to the Paperwork Reduction Act is actually reflected in the information collected through the forms enumerated in this collection rather than the templates themselves.

This collection consolidates many previously approved collections with new collections for the two templates for NOFAs and other pending PRAs. This request includes the burden associated with OMB approved forms as well as reporting where a specific form is not required.

HUD-Standard forms are used by all discretionary grant programs. The HUD Common forms are used by multiple discretionary grant programs or competitions. The Program-Specific forms are used by individual programs or competitions. Post-Award forms are used for reporting and oversight.

The information collected and to be collected is used in evaluating applications for HUD financial assistance and oversight of awards. Changes may be made based on actions of the Appropriations Committees and revisions to Departmental policies.

Estimate of the Total Number of Respondents and the Amount of Time Estimated for an Average Respondent To Respond:

Burden on Respondents:

The following table shows the estimated burden on applicants to prepare responses for information requests in applications by application.

Estimated respondents | Frequency | Estimated number of responses | Estimated hours per application | Estimated burden hours | Total estimated burden ¹
18,000 | 1 | 18,000 | 60 | 1,080,000 | $64,800,000

The following table shows the estimated burden on recipients who submit performance and financial reports.

Estimated respondents | Frequency | Estimated number of responses | Estimated annual hours per respondent | Estimated annual burden hours | Total estimated burden ¹
12,000 | 5 | 12,000 | 8 | 96,000 | $5,532,480

Burden on the Federal Government

Federal staff and others review and rate applications. The following table shows the average burden of reviewing applications for HUD's discretionary grant programs.

¹ Estimated cost for respondents is calculated from the June 2017 Department of Labor Bureau of Labor Statistics report on Employer Costs for Employee Compensation determined that the hourly rate of management, professional and related wages and salaries averaged $39.75 per hour plus $17.88 per hour for fringe benefits for a total $57.63 per hour.

Estimated respondents | Frequency | Estimated number of responses | Estimated hours per respondent | Estimated annual burden hours | Total estimated burden ²
18,000 | 1 | 18,000 | 20 | 360,000 | $21,499,200

The following table shows the estimated burden of Federal oversight per financial assistance award.

Estimated respondents (awards) | Frequency (per quarter and annual reports per year) | Estimated number of responses | Estimated burden hours per reports & recordkeeping review (4 hrs. per report) | Estimated burden hours per year | Total estimated burden ²
12,000 | 5 | 12,000 | 20 hrs./award | 240,000 | $14,332,800

C. Authority

Section 2 of the Paperwork Reduction Act of 1995, as codified at 44 U.S.C. 3507.

² Federal staff time is estimated for a GS-13 step 5 hourly rate at $51.48 per hour (from the Office of Personnel Management pay table with Washington-Baltimore-Arlington locality pay), plus 16% fringe benefit for a total of $59.72 per hour. The application review is estimated based on 2 staff people spending 10 hours reviewing each application.

Dated: December 12, 2017.
Henry Hensley,
Director, Office of Strategic Planning and Management.

[FR Doc. 2017-27327 Filed 12-19-17; 8:45 am]

BILLING CODE 4210-67-P